DEPARTMENT OF HOMELAND SECURITY

Coast Guard

33 CFR Part 1

[Docket No. USCG-2008-1259]

RIN 1625-AB32

Assessment Framework and Organizational Restatement Regarding Preemption for Certain Regulations Issued by the Coast Guard

AGENCY: Coast Guard, DHS.

ACTION: Notice of proposed rulemaking, withdrawal.

SUMMARY: The Coast Guard is withdrawing the proposed rule entitled “Assessment Framework and Organizational Restatement Regarding Preemption for Certain Regulations Issued by the Coast Guard,” published in the Federal Register on December 27, 2013. The Coast Guard is withdrawing the proposed rule because our practice of discussing the preemptive effect of the Coast Guard's legal authorities and regulations in the preamble of our rulemaking documents is sufficient to identify any preemptive effects.

DATES: The notice of proposed rulemaking published on December 27, 2013 (78 FR 79242) and comment period extension published on March 28, 2014 (79 FR 17482) are withdrawn as of December 5, 2025.

ADDRESSES: The docket for this withdrawal is available at the Federal eRulemaking Portal at www.regulations.gov. Please search for docket number USCG-2008-1259.

FOR FURTHER INFORMATION CONTACT: For information about this document call or email Stephen Hubchen, Coast Guard; telephone 202-372-1198, email Stephen.K.Hubchen@uscg.mil.

SUPPLEMENTARY INFORMATION:

Background

On December 27, 2013, the Coast Guard published a notice of proposed rulemaking (NPRM) titled “Assessment Framework and Organizational Restatement Regarding Preemption for Certain Regulations Issued by the Coast Guard,” at 78 FR 79242 (hereafter “the Framework”). On March 28, 2014, the comment period on the NPRM was reopened for an additional 60 days, at 79 FR 17482.

The Coast Guard received many comments on the NPRM that helped inform this decision to withdraw the rulemaking. The comments are available in the docket. Several commenters shared a concern that the breadth of the Framework's assertions of field preemption made it difficult to determine with certainty what the Framework's full impact would be on state laws. In addition, some commenters requested that the Coast Guard withdraw the proposed rule.

The Coast Guard also held two public meetings related to the NPRM, as announced in the notice published at 79 FR 22071 on April 21, 2014. Since 2014, the Coast Guard has not published any other actions related to this rulemaking and has decided to withdraw the NPRM.

Withdrawal

The Coast Guard is withdrawing the proposed rule because our practice of discussing the preemptive effect of the Coast Guard's legal authorities and regulations in the preamble of our rulemaking documents is sufficient to identify any preemptive effects. The Coast Guard has determined that the implied and express preemptive effects of our federal regulations, as established in statutory authorities and case law, do not require a blanket, general restatement in the Code of Federal Regulations of their preemptive effects.

The Coast Guard has taken, and will continue to take, a targeted approach to clarify its authorities in the preamble of each rulemaking document. The Coast Guard believes this approach is more aligned with the principles identified in Executive Order 13132 on Federalism than an organizational preemption statement that would be applied across different Coast Guard authorities. Therefore, the proposed rulemaking is not needed.

Upon publication of this notice, the Coast Guard will classify the corresponding Unified Agenda as a completed action.

This notice is issued under authority of 5 U.S.C. 552(a) and is consistent with the procedures set forth in 5 U.S.C. 533 of the Administrative Procedure Act.

Dated: December 2, 2025.
Giovanna M. Cinelli,
Judge Advocate General and Chief Counsel, Acting, U.S. Coast Guard.

[FR Doc. 2025-22011 Filed 12-4-25; 8:45 am]

BILLING CODE 9110-04-P